DEPARTMENT OF STATE

[Public Notice 10251]

Notice of Public Meeting

The Department of State will conduct an open meeting at 9:00 a.m. on Wednesday, January 24, 2018, in Room 6K15-15 of the Douglas A. Munro Coast Guard Headquarters Building at St. Elizabeth's, 2703 Martin Luther King Jr. Avenue SE, Washington, DC 20593. The primary purpose of the meeting is to prepare for the fifth session of the International Maritime Organization's (IMO) Sub-Committee on Pollution Prevention and Response (PPR 5) to be held at the IMO Headquarters, United Kingdom, on February 5-9, 2018.

The agenda items to be considered include:

—Adoption of the agenda

—Decisions of other IMO bodies

—Safety and pollution hazards of chemicals and preparation of consequential amendments to the IBC Code

—Review of MARPOL Annex II requirements that have an impact on cargo residues and tank washings of high viscosity and persistent floating products

—Revised guidance on ballast water sampling and analysis

—Revised guidance on methodologies that may be used for enumerating viable organisms

—Consideration of the impact on the Arctic of emissions of Black Carbon from international shipping

—Standards for shipboard gasification of waste systems and associated amendments to regulation 16 of MARPOL Annex VI

—Guidelines for the discharge of exhaust gas recirculation bleed-off water

—Revised certification requirements for SCR systems under the NOX Technical Code

—Review of the 2015 Guidelines for Exhaust Gas Cleaning Systems (resolution MEPC.259(68))

—Amendments to regulation 14 of MARPOL Annex VI to require a dedicated sampling point for fuel oil

—Consistent implementation of regulation 14.1.3 of MARPOL Annex VI

—Revised Guidelines for the application of MARPOL Annex I requirements to FPSOs and FSUs

—Review of the IBTS Guidelines and amendments to the IOPP Certificate and Oil Record Book

—Updated IMO Dispersant Guidelines (Part IV)

—Guide on practical methods for the implementation of the OPRC Convention and the OPRC-HNS Protocol

—Use of electronic record books

—Consideration of an initial proposal to amend annex 1 to the AFS Convention to include controls of cybutryne

—Unified interpretation to provisions of IMO environment-related Conventions

—Biennial status report and provisional agenda for PPR 6

—Election of Chair and Vice-Chair for 2019

—Any other business

—Report to the Marine Environmental Protection Committee

Members of the public may attend this meeting up to the seating capacity of the room. Upon request to the meeting coordinator, members of the public may also participate via teleconference, up to the capacity of the teleconference phone line. To access the teleconference line, participants should call (202) 475-4000 and use Participant Code: 887 809 72. To facilitate the building security process, and to request reasonable accommodation, those who plan to attend should contact the meeting coordinator, Mr. Patrick Keffler, by email at Patrick.A.Keffler@uscg.mil, by phone at (202) 372-1424, or in writing at 2703 Martin Luther King Jr. Ave. SE, Stop 7509, Washington DC 20593-7509, not later than January 17, 2018, five business days prior to the meeting. Requests made after January 17, 2018 might not be able to be accommodated. Please note that due to security considerations, two valid, government issued photo identifications must be presented to gain entrance to the Coast Guard Headquarters building. The building is accessible by taxi, public transportation, and privately owned conveyance (parking is available upon request).

Peter J. Ganser,
Senior Advisor, Office of Ocean and Polar Affairs, Department of State.

[FR Doc. 2017-28462 Filed 1-3-18; 8:45 am]

BILLING CODE 4710-09-P